DEPARTMENT OF HEALTH AND HUMAN SERVICES

Administration for Children and Families

Announcement of Expansion Supplement Grant Awards

AGENCY: Administration for Native Americans, ACF, HHS.

ACTION: Notice to 10 Expansion Supplement Awards to implement the First Lady's Let's Move! in Indian Country (LMIC) initiative.

CFDA#: 93.612.

Statutory Authority: The awards will be made pursuant to Section 803 of the Native American Programs Act of 1974.

Amount of Award: Ten awards for a total of $193,437.

Project Period: May 2011—September 30, 2011.

SUMMARY: The Administration for Children and Families (ACF), Administration for Native Americans (ANA), announces the award of ten expansion supplement awards to Native American Tribes that are currently combating the epidemic of health issues in Native America. Expansion supplement funds will support activities associated with the First Lady's initiative, Let's Move! in Indian Country. Under the program, grantee Tribes have set forth goals and milestones that will benefit Native youth, children, and families.

The following projects will be supported by the expansion supplement awards:

• Native Village of Afognak, Kodiak, AK ($20,000). The project will include Let's Move! activities as part of their summer youth camps.

• Pueblo of Tesuque, Santa Fe, NM ($20,025). The project will include Let's Move! activities in its existing project of building a comprehensive prevention and early intervention program that is focused on building community member awareness of, and ability to, confront challenges.

• Riverside-San Bernardino County Indian Health, Inc., Banning, CA ($20,000). The project will include healthy living and healthy lifestyles of the Let's Move! initiative in its already existing project that focuses on providing pre-marital, dating violence and communication education. The project also provides pre-marital education to pregnant and parenting adolescents.

• Yerington Paiute Tribe, Yerington, NV ($19,034). This project will include Let's Move! activities that support the development of a family/community wellness support system. The system provides prevention, intervention, referral and follow-up services to community members.

• Cornerstone Ministries, Inc., Crownpoint, NM ($20,001). This project will implement Let's Move! activities in its project to increase the awareness and value of healthy families and will include activities in its training of youth workers to conduct relationship education.

• Eastern Shawnee Tribe of Oklahoma, Wyandotte, OK ($17,490). This project will include Let's Move! activities in its project to encourage healthy eating and exercise to reduce the rate of diabetes among elderly tribal members.

• Leech Lake, Cass Lake, MN ($19,999). This project will include Let's Move! activities in its project to increase relevant academic and cultural content for an intensive in-service for teachers.

• Chickaloon Native Village, Chickaloon, AK ($16,948). This project will include Let's Move! activities in its project that encourages tribal governance and land stewardship of Chickaloon traditional lands by designing and implementing a trails and recreation planning, management, and ecotourism plan.

• White Earth Band of Chippewa, White Earth, MN ($19,940). This project will include Let's Move! activities in its project to improve child well-being and social stability by providing family support services to disadvantaged parents and their children.

• The American Indian Child Resource Center, Oakland, CA ($20,000). This project will include Let's Move! activities in its project to providing life skills training that fosters and promotes decision making, critical thinking, and independent living skills among young Native Americans living in urban environments.

FOR FURTHER INFORMATION CONTACT: Lillian A. Sparks, Commissioner, Administration for Native Americans, 370 L'Enfant Promenade, SW., Washington, DC 20047. Telephone: 877-922-9262 E-mail: anacommissioner@acf.hhs.gov.

Dated: July 13, 2011.
Kim Romine,
Intergovernmental Affairs Specialist, Administration for Native Americans.

[FR Doc. 2011-18377 Filed 7-20-11; 8:45 am]

BILLING CODE 4184-34-P